DEPARTMENT OF JUSTICE

Drug Enforcement Administration

[Docket No. DEA-392]

Bulk Manufacturer of Controlled Substances Application: Cambrex High Point, Inc.

ACTION: Notice of application.

DATES: Registered bulk manufacturers of the affected basic classes, and applicants therefore, may file written comments on or objections to the issuance of the proposed registration on or before October 25, 2019.

ADDRESS: Written comments should be sent to: Drug Enforcement Administration, Attention: DEA Federal Register Representative/DPW, 8701 Morrissette Drive, Springfield, Virginia 22152.

SUPPLEMENTARY INFORMATION: In accordance with 21 CFR 1301.33(a), this is notice that on June 19, 2019, Cambrex High Point, Inc., 4180 Mendenhall Oaks Parkway, High Point, North Carolina 27265-8017 applied to be registered as a bulk manufacturer of the following basic classes of controlled substances:

Controlled substance | Drug code | Schedule
Oxymorphone | 9652 | II
Noroxymorphone | 9668 | II

The company plans to manufacture the above listed controlled substances in bulk for distribution to its customers. No other activities for these drug codes are authorized for this registration.

Dated: August 9, 2019.
Neil D. Doherty,
Acting Assistant Administrator.

[FR Doc. 2019-18324 Filed 8-23-19; 8:45 am]

BILLING CODE 4410-09-P